MORRIS K. UDALL AND STEWART L. UDALL FOUNDATION

Sunshine Act Meetings

TIME AND DATE: Electronic Board of Trustees Meeting to be held via email exchanges Wednesday, October 4, 2023, 8:00 a.m. (MST-AZ), through Wednesday, October 11, 2023, 4:00 p.m. (MST-AZ).

PLACE: Board of Trustees meeting held via email exchanges.

STATUS: This special meeting of the Board of Trustees, to be held Electronically (in accordance with the Operating Procedures of the Board of Trustees of the Morris K. Udall and Stewart L. Udall Foundation), is open to the public. Members of the public who would like to observe this electronic meeting should email David Brown at brown@udall.gov prior to Wednesday, October 4, 2023, 8:00 a.m. (MST-AZ).

MATTERS TO BE CONSIDERED: (1) Call to Order and Chair's Remarks and (2) Board Operating Procedures Revisions (including a resolution regarding Amendment of Operating Procedures of the Board of Trustees of the Morris K. Udall and Stewart L. Udall Foundation).

CONTACT PERSON FOR MORE INFORMATION: David P. Brown, Executive Director, 434 E. University Blvd., Suite 300, Tucson, AZ, 85705, (520) 901-8560.

Dated: September 25, 2023.
David P. Brown
Executive Director, Morris K. Udall and Stewart L. Udall Foundation.

[FR Doc. 2023-21283 Filed 9-25-23; 4:15 pm]

BILLING CODE 6820-FN-P